NUCLEAR REGULATORY COMMISSION

[NRC-2010-0318]

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number. The NRC published a Federal Register notice with a 60-day comment period on this information collection on October 13, 2010.

1. Type of submission, new, revision, or extension: Extension.

2. The title of the information collection: 10 CFR Part 26, “Fitness for Duty Programs.”

3. Current OMB approval number: 3150-0146.

4. The form number if applicable: N/A.

5. How often the collection is required: Annually and on occasion.

6. Who will be required or asked to report: Nuclear power reactor licensees licensed under 10 CFR part 50 or 52 (except those who have permanently ceased operations and have verified that fuel has been permanently removed from the reactor); all holders of nuclear power plant construction permits and early site permits with a limited work authorization and applicants for nuclear power plant construction permits that have a limited work authorization under the provisions of 10 CFR part 50; all holders of a combined license for a nuclear power plant issued under 10 CFR part 52 and applicants for a combined license that have a limited work authorization; all licensees, who are authorized to possess, use, or transport formula quantities of strategic special nuclear material (SSNM) under the provisions of 10 CFR part 70; all holders of a certificate of compliance of an approved compliance plan issued under 10 CFR part 76, if the holder engages in activities involving formula quantities of SSNM; and all contractor/vendors (C/V) who implement fitness-for-duty (FFD) programs or program elements to the extent that the licensees and other entities listed in this paragraph rely on those C/V FFD programs or program elements to comply with 10 CFR part 26.

7. An estimate of the number of annual responses: 521,919 (120 total annual reporting responses + 42 recordkeepers + 521,757 third-party responses).

8. The estimated number of annual respondents: 89,510 (31 FFD program responses + 1 Subpart K construction FFD program respondent + 10 HHS-certified laboratories + 89,468 third-party respondents).

9. An estimate of the total number of hours needed annually to complete the requirement or request: 666,824 (6,615 reporting + 358,352 recordkeeping + 301,857 third party disclosure).

10. Abstract: NRC regulations in 10 CFR part 26 prescribe requirements to establish, implement, and maintain fitness-for-duty programs at affected licensees and other entities. The objectives of these requirements are to provide reasonable assurance that persons subject to the rule are trustworthy, reliable, and not under the influence of any substance, legal or illegal, or mentally or physically impaired from any cause, which in any way could adversely affect their ability to safely and competently perform their duties. These requirements also provide reasonable assurance that the effects of fatigue and degraded alertness on individuals' abilities to safely and competently perform their duties are managed commensurate with maintaining public health and safety. The information collections required by part 26 are necessary to properly manage FFD programs and to enable effective and efficient regulatory oversight of affected licensees other entities. These licensees and other entities must perform certain tasks, maintain records, and submit reports to comply with part 26 drug and alcohol provisions and fatigue management requirements. These records and reports are necessary to enable regulatory inspection and evaluation of a licensee's or entity's compliance with NRC regulations, its FFD performance, and of any significant FFD-related event to help maintain public health and safety, promote the common defense and security, and protect the environment.

A copy of the final supporting statement may be viewed free of charge at the NRC Public Document Room, One White Flint North, 11555 Rockville Pike, Room O-1 F21, Rockville, MD 20852. OMB clearance requests are available at the NRC World Wide Web site: http://www.nrc.gov/public-involve/doc-comment/omb/index.html. The document will be available on the NRC home page site for 60 days after the signature date of this notice.

Comments and questions should be directed to the OMB reviewer listed below by January 28, 2011. Comments received after this date will be considered if it is practical to do so, but assurance of consideration cannot be given to comments received after this date. Christine J. Kymn, Desk Officer, Office of Information and Regulatory Affairs (3150-0146), NEOB-10202, Office of Management and Budget, Washington, DC 20503.

Comments can also be e-mailed to Christine.J.Kymn@omb.eop.gov or submitted by telephone at (202) 395-4638.

The NRC Clearance Officer is Tremaine Donnell, (301) 415-6258.

Dated at Rockville, Maryland, December 21, 2010.
For the Nuclear Regulatory Commission.
Fajr Majeed,
Acting NRC Clearance Officer, Office of Information Services.

[FR Doc. 2010-32825 Filed 12-28-10; 8:45 am]

BILLING CODE 7590-01-P